DEPARTMENT OF ENERGY

Federal Energy Regulatory Commission

Combined Notice Of Filings #1

Take notice that the Commission received the following exempt wholesale generator filings:

Docket Numbers: EG15-1-000.

Applicants: Binghamton BOP LLC.

Description: Notice of Self-Certification of Exempt Wholesale Generator Status of Binghamton BOP LLC.

Filed Date: 10/1/14.

Accession Number: 20141001-5478.

Comments Due: 5 p.m. ET 10/22/14.

Take notice that the Commission received the following electric rate filings:

Docket Numbers: ER14-2022-000.

Applicants: Midcontinent Independent System Operator, Inc.

Description: Supplement to May 22, 2014 Request for Waiver of Midcontinent Independent System Operator, Inc.

Filed Date: 10/1/14.

Accession Number: 20141001-5479.

Comments Due: 5 p.m. ET 10/22/14.

Docket Numbers: ER14-2565-001.

Applicants: Public Service Company of New Mexico.

Description: Compliance filing per 35: Supplement to OATT Order No. 792 Compliance Filing to be effective 8/1/2014.

Filed Date: 10/2/14.

Accession Number: 20141002-5148.

Comments Due: 5 p.m. ET 10/23/14.

Docket Numbers: ER14-2568-001.

Applicants: Arizona Public Service Company.

Description: Compliance filing per 35: Compliance with Order No. 792 to be effective 10/3/2014.

Filed Date: 10/2/14.

Accession Number: 20141002-5128.

Comments Due: 5 p.m. ET 10/23/14.

Docket Numbers: ER14-2659-001.

Applicants: NV Energy, Inc.

Description: Tariff Amendment per 35.17(b): OATT Revisions to Attachment N—Update to Pending filing to be effective 8/4/2014.

Filed Date: 10/2/14.

Accession Number: 20141002-5095.

Comments Due: 5 p.m. ET 10/23/14.

Docket Numbers: ER14-2871-001.

Applicants: Cameron Ridge, LLC.

Description: Tariff Amendment per 35.17(b): Supplement to MBR to be effective 11/11/2014.

Filed Date: 10/2/14.

Accession Number: 20141002-5123.

Comments Due: 5 p.m. ET 10/23/14.

Docket Numbers: ER15-10-000.

Applicants: Southwest Power Pool, Inc.

Description: § 205(d) rate filing per 35.13(a)(2)(iii): Tariff Amendments to Revise Interest Due On Certain Refunds and Other Payments to be effective 12/1/2014.

Filed Date: 10/1/14.

Accession Number: 20141001-5376.

Comments Due: 5 p.m. ET 10/22/14.

Docket Numbers: ER15-11-000.

Applicants: Nevada Power Company.

Description: § 205(d) rate filing per 35.13(a)(2)(iii): Rate Schedule No. 139 Interim Joint Dispatch Agreement Renewal to be effective 12/1/2014.

Filed Date: 10/1/14.

Accession Number: 20141001-5382.

Comments Due: 5 p.m. ET 10/22/14.

Docket Numbers: ER15-12-000.

Applicants: Arizona Public Service Company.

Description: § 205(d) rate filing per 35.13(a)(2)(iii): Modifications to Service Agreement No. 216 to be effective 9/19/2014.

Filed Date: 10/1/14.

Accession Number: 20141001-5402.

Comments Due: 5 p.m. ET 10/22/14.

Docket Numbers: ER15-13-000.

Applicants: Transource Wisconsin, LLC.

Description: Baseline eTariff Filing per 35.1: Transource Wisconsin, LLC 205 Filing to Establish an Incentive Formula Rate to be effective 12/1/2014.

Filed Date: 10/1/14.

Accession Number: 20141001-5444.

Comments Due: 5 p.m. ET 10/22/14.

Docket Numbers: ER15-14-000.

Applicants: Sierra Pacific Power Company.

Description: § 205(d) rate filing per 35.13(a)(2)(iii): Rate Schedule No. 63—Concurrence in NPC RS No. 139 Interim Jt. Dispatch Renew to be effective 12/1/2014.

Filed Date: 10/1/14.

Accession Number: 20141001-5447.

Comments Due: 5 p.m. ET 10/22/14.

Docket Numbers: ER15-15-000.

Applicants: California Independent System Operator Corporation.

Description: § 205(d) rate filing per 35.13(a)(2)(iii): 2014-10-01_CommitmentCostEnhancements to be effective 12/1/2014.

Filed Date: 10/1/14.

Accession Number: 20141001-5452.

Comments Due: 5 p.m. ET 10/22/14.

Docket Numbers: ER15-16-000.

Applicants: Binghamton BOP LLC.

Description: Initial rate filing per 35.12 Binghamton BOP LLC Market-Based Rate Tariff to be effective 12/1/2014.

Filed Date: 10/1/14.

Accession Number: 20141001-5469.

Comments Due: 5 p.m. ET 10/22/14.

Docket Numbers: ER15-17-000.

Applicants: Westar Energy, Inc.

Description: Request for Cancellation of Rate Schedules and Service Agreements of Westar Energy, Inc.

Filed Date: 10/1/14.

Accession Number: 20141001-5473.

Comments Due: 5 p.m. ET 10/22/14.

Docket Numbers: ER15-18-000.

Applicants: Tampa Electric Company, TECO Energy, Inc.

Description: Petition of TECO Energy, Inc. and Tampa Electric Company for Waiver of Affiliate Transaction Pricing Rule.

Filed Date: 10/1/14.

Accession Number: 20141001-5480.

Comments Due: 5 p.m. ET 10/22/14.

Docket Numbers: ER15-19-000.

Applicants: NRG New Jersey Energy Sales LLC.

Description: Tariff Withdrawal per 35.15: Notice of Cancellation to be effective 10/3/2014.

Filed Date: 10/2/14.

Accession Number: 20141002-5076.

Comments Due: 5 p.m. ET 10/23/14.

Docket Numbers: ER15-20-000.

Applicants: Southwest Power Pool, Inc.

Description: § 205(d) rate filing per 35.13(a)(2)(iii): Revisions to Attachment AE—Re-Pricing Clarification to be effective 3/1/2014.

Filed Date: 10/2/14.

Accession Number: 20141002-5127.

Comments Due: 5 p.m. ET 10/23/14.

Docket Numbers: ER15-21-000.

Applicants: Southwest Power Pool, Inc.

Description: § 205(d) rate filing per 35.13(a)(2)(iii): Revisions Regarding Review and Reporting of Physical Withholding to be effective 3/1/2014.

Filed Date: 10/2/14.

Accession Number: 20141002-5144.

Comments Due: 5 p.m. ET 10/23/14.

Take notice that the Commission received the following electric securities filings:

Docket Numbers: ES15-1-000.

Applicants: Oklahoma Gas and Electric Company.

Description: Application of Oklahoma Gas and Electric Company for Authority to Issue Short-Term Debt Securities.

Filed Date: 10/2/14.

Accession Number: 20141002-5027.

Comments Due: 5 p.m. ET 10/23/14.

Take notice that the Commission received the following public utility holding company filings:

Docket Numbers: PH15-1-000.

Applicants: TECO Energy, Inc.

Description: TECO Energy, Inc. submits FERC 65-B Material Change in Facts of Waiver Notification.

Filed Date: 10/1/14.

Accession Number: 20141001-5481.

Comments Due: 5 p.m. ET 10/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2014.
Nathaniel J. Davis, Sr.,
Deputy Secretary.

[FR Doc. 2014-24119 Filed 10-8-14; 8:45 am]

BILLING CODE 6717-01-P